ENVIRONMENTAL PROTECTION AGENCY

40 CFR Part 52

[EPA-R07-OAR-2011-0627; FRL-9608-5]

Approval and Promulgation of Implementation Plans and Designations of areas for Air Quality Planning Purposes; Missouri and Illinois; St. Louis Nonattainment Area; Determination of Attainment by Applicable Attainment Date for the 1997 Annual Fine Particulate Standards

AGENCY: Environmental Protection Agency (EPA).

ACTION: Proposed rule.

SUMMARY: EPA is proposing to determine, pursuant to the Clean Air Act (CAA), that the bi-state St. Louis, Missouri-Illinois, fine particulate (PM2.5) nonattainment area (hereafter referred to as “the St. Louis area” or “the area”) has attained the 1997 annual PM2.5 national ambient air quality standards (NAAQS) by its applicable attainment date of April 5, 2010. This proposed determination is based on quality-assured and certified monitoring data for the 2007-2009 monitoring period. Based on this data, EPA previously determined on May 23, 2011, that the area attained the 1997 standards, and EPA suspended certain planning requirements for the area based on that determination. EPA is now proposing to find that the St. Louis area attained the 1997 annual PM2.5 NAAQS by its applicable attainment date. EPA is proposing this action because it is consistent with the CAA and its implementing regulations.

DATES: Comments must be received on or before January 19, 2012.

ADDRESSES: Submit your comments, identified by Docket ID No. EPA-R07-OAR-2011-0627, by one of the following methods:

1. www.regulations.gov: Follow the on-line instructions for submitting comments.

2. Email: brown.steven@epa.gov

3. Fax: (913) 551-9460.

4. Mail: Steven Brown, Atmospheric Section, Air Planning and Development Branch, Air and Waste Management Division, U.S. Environmental Protection Agency, Region 7, 901 North 5th Street, Kansas City, Kansas 66101.

5. Hand Delivery or Courier: Steven Brown, Atmospheric Section, Air Planning and Development Branch, Air and Waste Management Division, U.S. Environmental Protection Agency, Region 7, 901 North 5th Street, Kansas City, Kansas 66101. Such deliveries are only accepted during the Regional Office normal hours of operation, and special arrangements should be made for deliveries of boxed information. The Regional Office official hours of business are Monday through Friday, 8:30 a.m. to 4:30 p.m., excluding Federal holidays.

Instructions: Direct your comments to Docket ID No. EPA-R07-OAR-2011-0627. EPA's policy is that all comments received will be included in the public docket without change and may be made available online at www.regulations.gov, including any personal information provided, unless the comment includes information claimed to be Confidential Business Information (CBI) or other information whose disclosure is restricted by statute. Do not submit through www.regulations.gov or email, information that you consider to be CBI or otherwise protected. The www.regulations.gov Web site is an “anonymous access” system, which means EPA will not know your identity or contact information unless you provide it in the body of your comment. If you send an email comment directly to EPA without going through www.regulations.gov, your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

Docket: All documents in the electronic docket are listed in the www.regulations.gov index. Although listed in the index, some information is not publicly available, i.e., CBI or other information whose disclosure is restricted by statute. Certain other material, such as copyrighted material, is not placed on the Internet and will be publicly available only in hard copy form. Publicly available docket materials are available either electronically in www.regulations.gov or in hard copy at the Atmospheric Section, Air Planning and Development Branch, Air Waste and Management Division, U.S. Environmental Protection Agency, Region 7, 901 North 5th Street, Kansas City, Kansas 66101. EPA requests that if at all possible, you contact the person listed in the FOR FURTHER INFORMATION CONTACT section to schedule your inspection. The Regional Office's official hours of business are Monday through Friday, 8:30 to 4:30, excluding Federal holidays.

FOR FURTHER INFORMATION CONTACT: In Region 7, Steven Brown, Atmospheric Section, Air Planning And Development Branch, Air and Waste Management Division, U.S. Environmental Protection Agency, Region 7, 901 North 5th Street, Kansas City, Kansas 66101. Steven Brown may be reached by telephone at (913) 551-7718 or via electronic mail at brown.steven@epa.gov. In Region 5, John Summerhays, Attainment Planning and Maintenance Section, Air Programs Branch (AR 18J), U.S. Environmental Protection Agency, Region 5, 77 West Jackson Boulevard, Chicago, Illinois 60604. The telephone number is (312) 886-6067. Mr. Summerhays can also be reached via electronic mail at summerhays.john@epa.gov.

SUPPLEMENTARY INFORMATION:

I. What action is EPA taking?

II. What is the background for this action?

III. What is the air quality in the St. Louis area for the 1997 annual PM2.5 NAAQS for the 2007-2009 monitoring period?

IV. What is the proposed action, and what is the effect of this action?

V. Statutory and Executive Order Reviews

I. What action is EPA taking?

Based on EPA's review of the quality-assured and certified monitoring data for 2007-2009, and in accordance with section 179(c)(1) of the CAA, EPA proposes to determine that the St. Louis area has attained the 1997 annual PM2.5 NAAQS by the applicable attainment date of April 5, 2010. The St. Louis area is comprised of Jefferson County, Franklin County, St. Louis County, St. Louis City, and St. Charles in Missouri, and Madison, Monroe and St. Clair Counties, and Baldwin Township in Randolph County in Illinois.

It is important to distinguish between two different types of attainment determinations that EPA makes for areas that are designated nonattainment. Both types require notice-and-comment rulemaking.

(1) Determinations of attainment by an area's attainment date, and

(2) Determinations of attainment for purposes of suspending the State's obligation to submit certain planning SIPs linked to attainment.

This proposed action is with respect to Type 1 above. The CAA requires EPA to determine whether a nonattainment area has attained the standard as of its applicable attainment date. These determinations of attainment provide a historical snapshot—they evaluate attainment only as of an area's attainment deadline, and are issued to comply with section 181(b)(2)of the CAA for ozone and sections 172 and 179 of the CAA for PM2.5. Determinations of attainment by an attainment deadline are separate and independent of the second type of attainment determinations, as described below.

On May 23, 2010, EPA published a final rulemaking making a determination that the St. Louis area attained the 1997 annual PM2.5 NAAQS based on quality-assured, quality controlled and certified ambient air monitoring data for the 2007-2009 monitoring period and thereby suspended the requirements for the St. Louis area to submit an attainment demonstration and associated reasonably available control measures (RACM), a reasonable further progress (RFP) plan, contingency measures, and other planning State Implementation Plan (SIP) revisions related to attainment of the 1997 annual PM2.5 NAAQS so long as the area continues to attain the 1997 Annual PM2.5 NAAQS. See 76 FR 29652. Further information regarding that action is available in the notice proposing that action, published on March 7, 2011, at 76 FR 12302.

Today's proposed action merely makes a determination that the St. Louis area has attained the 1997 annual PM2.5 NAAQS by its applicable attainment date. This action is not a re-proposal of the prior attainment determination or of the effects of suspending the requirements for the St. Louis area to submit an attainment demonstration and associated RACM, an RFP plan, contingency measures, and other planning SIP revisions related to attainment of the standard. More information regarding the 1997 annual PM2.5 NAAQS and the area's attainment of that NAAQS is available at 76 FR 29652 (May 23, 2011). A detailed discussion of EPA's review of the monitoring data showing attainment of the standard can be found in the March 7, 2011 proposed action and the May 23, 2011 final action.

II. What is the background for this action?

On January 5, 2005, EPA designated the St. Louis area as nonattainment for the 1997 annual PM2.5 NAAQS. (70 FR 944) The designation was effective April 5, 2005. Section 172(a) of the CAA requires a state to achieve attainment no later than 5 years from the nonattainment designation. Thus, the St. Louis area had an applicable attainment date of April 5, 2010. Pursuant to section 179(c) of the CAA, EPA is required to make a determination whether the area attained the standard by its applicable attainment date. Specifically, section 179(c)(1) of the CAA reads as follows: “As expeditiously as practicable after the applicable attainment date for any nonattainment area, but not later than 6 months after such date, the Administrator shall determine, based on the area's air quality as of the attainment date, whether the area attained the standard by that date.” Today's action makes this determination.

III. What is the air quality in the St. Louis area for the 1997 annual PM2.5 NAAQS for the 2007-2009 monitoring period?

Under EPA regulations at 40 CFR 50.7, the 1997 annual primary and secondary PM2.5 standards are met when the annual arithmetic mean concentration, as determined in accordance with 40 CFR part 50, Appendix N, is less than or equal to 15.0 micrograms per cubic meter (μg/m3) at all relevant monitoring sites in the subject area.

EPA reviewed the ambient air monitoring data for the St. Louis area in accordance with the provisions of 40 CFR part 50, Appendix N. All data considered have been quality-assured, certified, and recorded in EPA's Air Quality System database. This review addresses air quality data collected in the 3-year period from 2007-2009. The 3-year period from 2007-2009 provides the latest 3-year set of data that EPA may use to determine whether the St. Louis area attained the standard by its applicable attainment date of April 5, 2010.

Table 1—Annual Average Concentrations in the St. Louis area (2007-2009)
[Annual PM2.5 design values for Saint Louis area monitors with complete data for 2007 to 2009]
State | County | Monitor | Site name | Annual design value 2007-2009
IL | Madison | 17-119-1007 | 23rd and Madison | 14.1
|  | 17-119-2009 | 1700 Annex St | 12.5
|  | 17-119-3007 | 54 N. Walcott | 12.5
| Randolph | 17-157-0001 |  | 11.4
| Saint Clair | 17-163-0010 | 13th and Tudor | 13.3
|  | 17-163-4001 | 1500 Caseyville Ave | 12.5
MO | City of Saint Louis | 29-510-0007 | Broadway | 12.8
|  | 29-510-0085 | Blair Street | 12.7

As shown above in Table 1, during the 2007-2009 design period, the St. Louis area met the 1997 annual PM2.5 NAAQS. The official annual design value for the St. Louis area for the 2007-2009 period is 14.1 μg/m³. More detailed information on the monitoring data for the St. Louis area during the 2007-2009 design period is provided in EPA's March 7, 2011, proposed rulemaking, and EPA's May 23, 2011, final rulemaking regarding the determination of attainment for the St. Louis area for the 1997 annual PM2.5 NAAQS. See 76 FR 12302 and 76 FR 29652.

IV. What is the proposed action, and what is the effect of this action?

This action is a proposed determination that the St. Louis area has attained the 1997 annual PM2.5 NAAQS by its applicable attainment date of April 5, 2010, consistent with the CAA section 179(c)(1). Finalizing this proposed action would not constitute a redesignation of the St. Louis area to attainment of 1997 annual PM2.5 NAAQS under section 107(d)(3) of the CAA because EPA would not have yet approved a maintenance plan for the St. Louis area as required under CAA section 175A, nor a determination that the St. Louis area has met all other requirements for redesignation under the CAA. Even if EPA finalizes today's proposed action, the designation status of the St. Louis area will remain nonattainment for the 1997 annual PM2.5 NAAQS until such time as EPA determines that the CAA requirements for redesignation to attainment are met, and takes action to finalize that determination through a redesignation.

V. Statutory and Executive Order Reviews

This action proposes to make a determination of attainment based on air quality, and would not impose additional requirements beyond those imposed by state law. For that reason, this proposed action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, this proposed determination that the St. Louis area attained the 1997 annual average PM2.5 NAAQS by its applicable attainment date does not have tribal implications as specified by Executive Order 13175 (65 FR 67249, November 9, 2000), because the SIPs are not approved to apply in Indian country located in the states, and EPA notes that it will not impose substantial direct costs on tribal governments or preempt tribal law.

List of Subjects in 40 CFR Part 52

Air pollution control, Environmental protection, Particulate matter, Reporting and recordkeeping requirements.

Authority: 42 U.S.C. 7401 et seq.

Dated: November 1, 2011.
Mark Hague,
Acting Regional Administrator, Region 7.
Dated: December 9, 2011.
Susan Hedman,
Regional Administrator, Region 5.

[FR Doc. 2011-32561 Filed 12-19-11; 8:45 am]

BILLING CODE 6560-50-P